DEPARTMENT OF HOUSING AND URBAN DEVELOPMENT

[Docket No. FR-5833-N-02]

60-Day Notice of Proposed Information Collection: Section 3 Summary Report for Economic Opportunities for Low and Very Low Income Persons (Form HUD 60002) and Section 3 Complaint Register (Form HUD 958)

AGENCY: Office of the Assistant Secretary for Fair Housing and Equal Opportunity, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 17, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: (1) Section 3 Summary Report for Economic Opportunities for Low- and Very Low-Income Persons and (2) Section 3 Complaint Register.

OMB Approval Number: 2529-0043.

Type of Request: Revision.

Form Number: Form HUD 60002 and Form HUD 958.

Description of the need for the information and proposed use: Section 3 of the Housing and Urban Development Act of 1968 (12 U.S.C. 1701u) (Section 3) mandates recipients of covered HUD financial assistance to provide employment, training, and contracting opportunities, to the greatest extend feasible, to low- and very low income persons, particularly those who are recipients of government assistance for housing residing in the community where the funds are spent, and to the businesses that substantially employ these persons. The implementing regulations are found at 24 CFR part 135.

The Section 3 Summary Report (Form HUD 60002) is used by recipients of HUD financial assistance (i.e., public housing agencies, municipalities, and property owners) to report the amount of jobs and contracting opportunities that have been generated from their usage of covered HUD financial assistance, as required at 24 CFR 135.90. Data collected on this form is used to assess the overall effectiveness of Section 3 and to make determinations of compliance with regulatory requirements.

The Section 3 Complaint Register (Form HUD 958) is used by individuals and business owners that meet the definition of a Section 3 resident or businesses concern set forth at 24 CFR 135.5, or their representatives, to file complaints alleging noncompliance with the regulatory requirements of Section 3 against recipients of covered HUD financial assistance or their contractors. Information collected on this form is used to inform the Department about recipients that potentially are not complying with 24 CFR part 135, and to initiate subsequent complaint investigations and compliance reviews.

Respondents:

A. The Section 3 Summary Report—Form HUD 60002: Staff at public housing agencies, municipalities and HUD multi-family property owners.

B. The Complaint Register Form HUD 958: Low-income residents and businesses.

1. How is the information to be used?

A. The Section 3 Summary Report—Form HUD 60002

The information will be used by the Department to monitor program recipients' compliance with requirements of Section 3. HUD headquarters will use the information to assess the results of the Department's efforts to meet the regulatory objectives; make compliance determinations; influence enforcement actions; and formulate policy decisions.

B. The Complaint Register Form HUD 958

The Section 3 Complaint Register (Form HUD 958) is used by individuals and business owners that meet the definition of a Section 3 resident or businesses concern set forth at 24 CFR 135.5, or their representatives, to file complaints alleging noncompliance with the regulatory requirements of Section 3 against recipients of covered HUD financial assistance or their contractors. Information collected on this form is used to inform the Department about recipients that potentially are not complying with 24 CFR part 135, and to initiate subsequent complaint investigations and compliance reviews.

Information collection | Number of respondents | Frequency of response | Responses per annum | Burden hour per response | Annual burden hours | Hourly cost per response | Annual cost
HUD-60002 | 5,000 | 2 | 10,000 | 8 | 80,000 | $22.71 | $1,816,800
HUD-958 | 20 | 1 | 20 | 1 | 20 | 10.00 | 200
Total | 5,020 | 3 | 10,020 | 9 | 90,180 | 22.71 | 1,817,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 10, 2015.
Sara Pratt,
Deputy Assistant Secretary for Enforcement Programs.

[FR Doc. 2015-14916 Filed 6-16-15; 8:45 am]

BILLING CODE 4210-67-P